DEPARTMENT OF THE INTERIOR

National Park Service

[NPS-WASO-NAGPRA-21088; PPWOCRADN0-PCU00RP14.R50000]

Notice of Inventory Completion: State Center Community College District, Fresno, CA

AGENCY: National Park Service, Interior.

ACTION: Notice.

SUMMARY: The State Center Community College District has completed an inventory of human remains and associated funerary objects, in consultation with the appropriate Indian tribes or Native Hawaiian organizations, and has determined that there is no cultural affiliation between the human remains and associated funerary objects and any present-day Indian tribes or Native Hawaiian organizations. Representatives of any Indian tribe or Native Hawaiian organization not identified in this notice that wish to request transfer of control of these human remains and associated funerary objects should submit a written request to the State Center Community College District. If no additional requestors come forward, transfer of control of the human remains and associated funerary objects to the Indian tribes or Native Hawaiian organizations stated in this notice may proceed.

DATES: Representatives of any Indian tribe or Native Hawaiian organization not identified in this notice that wish to request transfer of control of these human remains and associated funerary objects should submit a written request with information in support of the request to the State Center Community College District at the address in this notice by July 28, 2016.

ADDRESSES: Cynthia E. Azari, Ed.D., President, Fresno City College, State Center Community College District, 1101 East University Avenue, Fresno, CA 93741, telephone (559) 442-4600, email cynthia.azari@fresnocitycollege.edu.

SUPPLEMENTARY INFORMATION: Notice is here given in accordance with the Native American Graves Protection and Repatriation Act (NAGPRA), 25 U.S.C. 3003, of the completion of an inventory of human remains and associated funerary objects under the control of the State Center Community College District, Fresno, CA. The human remains and associated funerary objects were removed from Fresno and Merced Counties, CA.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains was made by the State Center Community College District professional staff in consultation with representatives of the Big Sandy Rancheria of Western Mono Indians of California (previously listed as the Big Sandy Rancheria of Mono Indians of California); California Valley Miwok Tribe, California; Northfork Rancheria of Mono Indians of California; Paiute-Shoshone Tribe of the Fallon Reservation and Colony, Nevada; Picayune Rancheria of Chukchansi Indians of California; Pyramid Lake Paiute Tribe of the Pyramid Lake Reservation, Nevada; Santa Rosa Indian Community of the Santa Rosa Rancheria, California; Shingle Springs Band of Miwok Indians, Shingle Springs Rancheria (Verona Tract), California; Table Mountain Rancheria of California; Tule River Indian Tribe of the Tule River Reservation, California; Walker River Paiute Tribe of the Walker River Reservation, Nevada; Yerington Paiute Tribe of the Yerington Colony and Campbell Ranch, Nevada; and the Dunlap Band of Mono Indians and Traditional Choinumni Tribe (a non-federally recognized Indian group), hereafter referred to as “The Consulted Tribes.”

Documentation that accompanied an invitation to consult was also provided to the Buena Vista Rancheria of Me-Wuk Indians of California; Chicken Ranch Rancheria of Me-Wuk Indians of California; Cold Springs Rancheria of Mono Indians of California; Fort McDermitt Paiute and Shoshone Tribes of the Fort McDermitt Indian Reservation, Nevada and Oregon; Ione Band of Miwok Indians of California; Jackson Band of Miwuk Indians (previously listed as the Jackson Rancheria of Me-Wuk Indians of California); Middletown Rancheria of Pomo Indians of California; Reno-Sparks Indian Colony, Nevada; Santa Rosa Band of Cahuilla Indians, California (previously listed as the Santa Rosa Band of Cahuilla Mission Indians of the Santa Rosa Reservation); Te-Moak Tribe of Western Shoshone Indians of Nevada (Four constituent bands: Battle Mountain Band; Elko Band; South Fork Band; and Wells Band); Tuolumne Band of Me-Wuk Indians of the Tuolumne Rancheria of California; all of whom did not engage with the SCCCD in consultation. The invitation and documentation was also provided to the Wukchumni Tribe (a non-federally recognized Indian group), hereafter referred to as “The Invited Tribes.”

History and Description of the Remains

Between the 1940s and 1970s, human remains representing, at minimum, one individual were removed from Squaw Valley, Fresno County, CA. No known individuals were identified. No associated funerary objects are present.

Between the 1940s and 1970s, human remains representing, at minimum, one individual were removed from El Nido, on the San Joaquin River, Merced County, CA. No known individuals were identified. The one associated funerary object is 1 lot of dirt.

Between the 1940s and 1970s, human remains representing, at minimum, 16 individuals were removed from Fresno or Merced County, CA. No known individuals were identified. The seven associated funerary objects are 1 small rock, 1 lot of unidentifiable non-bone materials, 3 lots of dirt, 1 seed fragment, and 1 unidentifiable non-bone object.

According to Mr. Ron Gerstenberg, former natural resources teacher at Reedley College, the human remains were collected by Robert Merz, who taught anthropology at Reedley College. Mr. Merz was active from the 1940s until he retired in the 1970s and has since passed. Before he retired, Mr. Merz gave the remains to Mr. Gerstenberg for safekeeping at Reedley College.

In September 2011, Reedley College staff sent the collection to the State Center Community College District Police Department (SCCCDPD). Ms. Miller and Dr. Jill Minar, archeology instructor at Fresno City College, examined the human remains and cultural items at the SCCCDPD and after preliminary examination, it was determined the human remains were likely Native American.

Ms. Miller contacted the Fresno County Coroner, David Hadden, and arranged for Dr. Roger La Jeunesse, Biological Anthropologist/Professor at California State University Fresno, to examine the human remains and provide a report as to the contents of the boxes. After examination the human remains were returned to Fresno City College Archaeological Curation Facility where they are currently housed.

Determinations Made by the State Center Community College District

Officials of the State Center Community College District have determined that:

• Pursuant to 25 U.S.C. 3001(9), the human remains described in this notice are Native American based on a biological analysis of the complete crania, dental wear on the teeth, and the presence of soil still adhering to some of the remains, as well as the contents of notes found in association with the remains and Mr. Merz area of interest.

• Pursuant to 25 U.S.C. 3001(9), the human remains described in this notice represent the physical remains of 18 individuals of Native American ancestry.

• Pursuant to 25 U.S.C. 3001(3)(A), the eight objects described in this notice are reasonably believed to have been placed with or near individual human remains at the time of death or later as part of the death rite or ceremony.

• Pursuant to 25 U.S.C. 3001(2), a relationship of shared group identity cannot be reasonably traced between the Native American human remains and associated funerary objects and any present-day Indian tribe.

• According to final judgments of the Indian Claims Commission or the Court of Federal Claims, the land from which the Native American human remains and associated funerary objects were removed is the aboriginal land of Big Sandy Rancheria of Western Mono Indians of California (previously listed as the Big Sandy Rancheria of Mono Indians of California); Fort McDermitt Paiute and Shoshone Tribes of the Fort McDermitt Indian Reservation, Nevada and Oregon; Paiute-Shoshone Tribe of the Fallon Reservation and Colony, Nevada; Pyramid Lake Paiute Tribe of the Pyramid Lake Reservation, Nevada; Reno-Sparks Indian Colony, Nevada; Walker River Paiute Tribe of the Walker River Reservation, Nevada; and Yerington Paiute Tribe of the Yerington Colony and Campbell Ranch, Nevada.

• Treaties, Acts of Congress, or Executive Orders, indicate that the land from which the Native American human remains and associated funerary objects were removed is the aboriginal land of the Buena Vista Rancheria of Me-Wuk Indians of California; California Valley Miwok Tribe, California; Chicken Ranch Rancheria of Me-Wuk Indians of California; Cold Springs Rancheria of Mono Indians of California; Ione Band of Miwok Indians of California; Jackson Rancheria of Me-Wuk Indians of California; Middletown Rancheria of Pomo Indians of California; Northfork Rancheria of Mono Indians of California; Picayune Rancheria of Chukchansi Indians of California; Santa Rosa Indian Community of the Santa Rosa Rancheria; Shingle Springs Band of Miwok Indians, Shingle Springs Rancheria (Verona Tract), California; Table Mountain Rancheria of California; Tule River Indian Tribe of the Tule River Reservation; Tuolumne Band of Me-Wuk Indians of the Tuolumne Rancheria of California.

• Pursuant to 43 CFR 10.11(c)(1), the disposition of the human remains and associated funerary objects may be to Big Sandy Rancheria of Western Mono Indians of California (previously listed as the Big Sandy Rancheria of Mono Indians of California); Buena Vista Rancheria of Me-Wuk Indians of California; California Valley Miwok Tribe, California; Chicken Ranch Rancheria of Me-Wuk Indians of California; Cold Springs Rancheria of Mono Indians of California; Fort McDermitt Paiute and Shoshone Tribes of the Fort McDermitt Indian Reservation, Nevada and Oregon; Ione Band of Miwok Indians of California; Jackson Rancheria of Me-Wuk Indians of California; Middletown Rancheria of Pomo Indians of California; Northfork Rancheria of Mono Indians of California; Paiute-Shoshone Tribe of the Fallon Reservation and Colony, Nevada; Picayune Rancheria of Chukchansi Indians of California; Santa Rosa Indian Community of the Santa Rosa Rancheria; Pyramid Lake Paiute Tribe of the Pyramid Lake Reservation, Nevada; Reno-Sparks Indian Colony, Nevada; Shingle Springs Band of Miwok Indians, Shingle Springs Rancheria (Verona Tract), California; Table Mountain Rancheria of California; Tule River Indian Tribe of the Tule River Reservation; Tuolumne Band of Me-Wuk Indians of the Tuolumne Rancheria of California; Walker River Paiute Tribe of the Walker River Reservation, Nevada; and the Yerington Paiute Tribe of the Yerington Colony and Campbell Ranch, Nevada. To date, the Picayune Rancheria of Chukchansi Indians of California; Santa Rosa Indian Community of the Santa Rosa Rancheria; Table Mountain Rancheria of California; and Tule River Indian Tribe of the Tule River Reservation, have requested disposition jointly.

Additional Requestors and Disposition

Representatives of any Indian tribe or Native Hawaiian organization not identified in this notice that wish to request transfer of control of these human remains and associated funerary objects should submit a written request with information in support of the request to Cynthia E. Azari, Ed.D., Interim President, Fresno City College, State Center Community College District, 1101 East University Avenue, Fresno, CA 93741, telephone (559) 442-4600, email cynthia.azari@fresnocitycollege.edu, by July 28, 2016. After that date, if no additional requestors have come forward, transfer of control of the human remains and associated funerary objects to Big Sandy Rancheria of Western Mono Indians of California (previously listed as the Big Sandy Rancheria of Mono Indians of California); Buena Vista Rancheria of Me-Wuk Indians of California; California Valley Miwok Tribe, California; Chicken Ranch Rancheria of Me-Wuk Indians of California; Cold Springs Rancheria of Mono Indians of California; Fort McDermitt Paiute and Shoshone Tribes of the Fort McDermitt Indian Reservation, Nevada and Oregon; Ione Band of Miwok Indians of California; Jackson Rancheria of Me-Wuk Indians of California; Middletown Rancheria of Pomo Indians of California; Northfork Rancheria of Mono Indians of California; Paiute-Shoshone Tribe of the Fallon Reservation and Colony, Nevada; Picayune Rancheria of Chukchansi Indians of California; Santa Rosa Indian Community of the Santa Rosa Rancheria; Pyramid Lake Paiute Tribe of the Pyramid Lake Reservation, Nevada; Reno-Sparks Indian Colony, Nevada; Shingle Springs Band of Miwok Indians, Shingle Springs Rancheria (Verona Tract), California; Table Mountain Rancheria of California; Tule River Indian Tribe of the Tule River Reservation; Tuolumne Band of Me-Wuk Indians of the Tuolumne Rancheria of California; Walker River Paiute Tribe of the Walker River Reservation, Nevada; and the Yerington Paiute Tribe of the Yerington Colony and Campbell Ranch, Nevada may proceed. To date, the Picayune Rancheria of Chukchansi Indians of California; Santa Rosa Indian Community of the Santa Rosa Rancheria; Table Mountain Rancheria of California; and Tule River Indian Tribe of the Tule River Reservation, have requested disposition jointly.

The State Center Community College District is responsible for notifying The Consulted Tribes and The Invited Tribes that this notice has been published.

Dated: May 13, 2016.
Melanie O'Brien,
Manager, National NAGPRA Program.

[FR Doc. 2016-15242 Filed 6-27-16; 8:45 am]

BILLING CODE 4312-50-P